DEPARTMENT OF HOUSING AND URBAN DEVELOPMENT

[Docket No. FR-5317-N-01]

Notice of Availability: Notice of Funding Availability (NOFA) for Native American Housing Block Grant Program Under the American Recovery and Reinvestment Act of 2009.

AGENCY: Office of the Assistant Secretary for Public and Indian Housing, HUD.

ACTION: Notice.

SUMMARY: HUD announces the availability of, and funding criteria for, approximately $242,250,000 available in competitive grants to Indian tribes and other entities eligible to receive Native American Housing and Self-Determination Act (NAHASDA) funds under the American Recovery and Reinvestment Act of 2009 (Pub. L. 111-5, approved February 17, 2009). The assistance is intended to preserve and create jobs, promote economic recovery, assist those impacted by the recession, and invest in transportation, environment and infrastructure that will provide long-term economic benefits. The notice establishing program requirements is available on the HUD Web site at: http://www.hud.gov/recovery

FOR FURTHER INFORMATION CONTACT: Questions on program requirements should be directed to your Area Office of Native American Programs (ONAP). A contact list for each Area ONAP can be found at http://www.hud.gov/offices/pih/ih/codetalk/onap/map/nationalmap.cfm. Persons with hearing or speech impairments may access these numbers via TTY by calling the Federal Information Relay Service at 1-800-877-8339.

Dated: May 21, 2009.
Paula O. Blunt,
General Deputy Assistant Secretary for Public and Indian Housing.

[FR Doc. E9-12677 Filed 5-28-09; 11:15 am]

BILLING CODE 4210-67-P